DEPARTMENT OF ENERGY

Federal Energy Regulatory Commission

Combined Notice of Filings #2

Take notice that the Commission received the following electric corporate filings:

Docket Numbers: EC14-108-000.

Applicants: Elizabethtown Energy, LLC, Lumberton Energy, LLC.

Description: Application Under Section 203 For Authorization Of Disposition Of Jurisdictional Facilities, And Request For Waivers, Expedited Consideration, And Confidential Treatment of Elizabethtown Energy, LLC, and Lumberton Energy, LLC.

Filed Date: 6/30/14.

Accession Number: 20140630-5356.

Comments Due: 5 p.m. ET 7/21/14.

Docket Numbers: EC14-109-000.

Applicants: Arlington Valley, LLC, Griffith Energy LLC, GWF Energy LLC, Cogen Technologies Linden Venture, L.P., East Coast Power Linden Holding, L.L.C., Oaktree Capital Group, LLC.

Description: Application of for Authorization for Disposition of Jurisdictional Facilities, et al. of Arlington Valley, et. under EC14-109.

Filed Date: 7/1/14.

Accession Number: 20140701-5132.

Comments Due: 5 p.m. ET 7/22/14.

Take notice that the Commission received the following electric rate filings:

Docket Numbers: ER10-1437-002.

Applicants: Tampa Electric Company.

Description: Triennial Market Power Update of Tampa Electric Company.

Filed Date: 6/30/14.

Accession Number: 20140630-5353.

Comments Due: 5 p.m. ET 8/29/14.

Docket Numbers: ER10-1585-006; ER10-2960-004; ER10-1586-004; ER10-1586-004; ER10-1594-006; ER10-1595-004; ER10-1598-004; ER10-1617-006; ER10-1618-004; ER12-60-008; ER10-1632-008; ER10-1626-005; ER10-1628-006; ER10-1630-004.

Applicants: Astoria Generating Company, L.P., Big Sandy Peaker Plant, LLC, California Electric Marketing, LLC, Crete Energy Venture, LLC, Lincoln Generating Facility, LLC, New Mexico Electric Marketing, LLC, Rolling Hills Generating, L.L.C., Tenaska Power Management, LLC, Tenaska Power Services Co., Tenaska Virginia Partners, L.P., Texas Electric Marketing, LLC, Wolf Hills Energy, LLC, Alabama Electric Marketing, LLC.

Description: Updated Market Power Analysis in Northeast Region of the Tenaska MBR Sellers.

Filed Date: 6/30/14.

Accession Number: 20140630-5331.

Comments Due: 5 p.m. ET 8/29/14.

Docket Numbers: ER10-2131-008.

Applicants: Grand Ridge Energy LLC.

Description: Triennial Report of Grand Ridge Energy LLC.

Filed Date: 6/30/14.

Accession Number: 20140630-5332.

Comments Due: 5 p.m. ET 8/29/14.

Docket Numbers: ER10-2133-008.

Applicants: Sheldon Energy LLC.

Description: Triennial Report of Sheldon Energy LLC.

Filed Date: 6/30/14.

Accession Number: 20140630-5337.

Comments Due: 5 p.m. ET 8/29/14.

Docket Numbers: ER10-2137-008.

Applicants: Beech Ridge Energy LLC.

Description: Triennial Report of Beech Ridge Energy LLC.

Filed Date: 6/30/14.

Accession Number: 20140630-5330.

Comments Due: 5 p.m. ET 8/29/14.

Docket Numbers: ER10-2138-008; ER10-2139-008.

Applicants: Grand Ridge Energy III LLC, Grand Ridge Energy II LLC.

Description: Triennial Report of Grand Ridge Energy II LLC, et al.

Filed Date: 6/30/14.

Accession Number: 20140630-5335.

Comments Due: 5 p.m. ET 8/29/14.

Docket Numbers: ER10-2140-008.

Applicants: Grand Ridge Energy IV LLC.

Description: Triennial Report of Grand Ridge Energy IV LLC.

Filed Date: 6/30/14.

Accession Number: 20140630-5334.

Comments Due: 5 p.m. ET 8/29/14.

Docket Numbers: ER10-2141-008.

Applicants: Grand Ridge Energy V LLC.

Description: Triennial Report of Grand Ridge Energy V LLC.

Filed Date: 6/30/14.

Accession Number: 20140630-5338.

Comments Due: 5 p.m. ET 8/29/14.

Docket Numbers: ER10-2253-011; ER10-3319-014.

Applicants: Astoria Energy LLC, Astoria Energy II LLC.

Description: Order No. 697 Triennial Compliance Filing of Astoria Energy LLC and Astoria Energy II, LLC.

Filed Date: 6/30/14.

Accession Number: 20140630-5358.

Comments Due: 5 p.m. ET 8/29/14.

Docket Numbers: ER10-2543-002; ER14-1153-001; ER12-1571-003; ER14-1154-001; ER11-2159-003.

Applicants: Verso Androscoggin LLC, Verso Androscoggin Power LLC, Verso Bucksport LLC, Verso Maine Energy LLC, Verso Bucksport Power LLC.

Description: Triennial Market Power Report for the Northeast Region of the Verso MBR Entities.

Filed Date: 6/30/14.

Accession Number: 20140630-5349.

Comments Due: 5 p.m. ET 8/29/14.

Docket Numbers: ER10-2604-007; ER10-2603-007; ER10-2602-010; ER10-2609-009; ER10-2606-009.

Applicants: Luke Paper Company, Escanaba Paper Company, Consolidated Water Power Company, NewPage Energy Services, LLC, Rumford Paper Company.

Description: Updated Northeast Region Market Analysis of the NewPage MBR Companies.

Filed Date: 6/30/14.

Accession Number: 20140630-5354.

Comments Due: 5 p.m. ET 8/29/14.

Docket Numbers: ER10-2651-003.

Applicants: Lockhart Power Company.

Description: Southeast Triennial Update of Lockhart Power Company.

Filed Date: 6/30/14.

Accession Number: 20140630-5333.

Comments Due: 5 p.m. ET 8/29/14.

Docket Numbers: ER10-2881-014; ER10-2882-014; ER10-2883-014; ER10-2884-014; ER10-2885-014; ER10-2641-014; ER10-2663-014; ER10-2886-014; ER13-1101-009; ER13-1541-008; ER14-787-002.

Applicants: Alabama Power Company, Southern Power Company, Mississippi Power Company, Georgia Power Company, Gulf Power Company, Oleander Power Project, Limited Partnership, Southern Company-Florida LLC, Southern Turner Cimarron I, LLC, Spectrum Nevada Solar, LLC, Spectrum Nevada Solar, LLC, Campo Verde Solar, LLC, Macho Springs Solar, LLC.

Description: Updated Market Power Analysis of Alabama Power Company, et al.

Filed Date: 6/30/14.

Accession Number: 20140630-5346.

Comments Due: 5 p.m. ET 8/29/14.

Docket Numbers: ER11-3872-009.

Applicants: Stony Creek Energy LLC.

Description: Triennial Report of Stony Creek Energy LLC.

Filed Date: 6/30/14.

Accession Number: 20140630-5336.

Comments Due: 5 p.m. ET 8/29/14.

Docket Numbers: ER12-161-007.

Applicants: Bishop Hill Energy LLC.

Description: Triennial Report of Bishop Hill Energy LLC.

Filed Date: 6/30/14.

Accession Number: 20140630-5329.

Comments Due: 5 p.m. ET 8/29/14.

Docket Numbers: ER12-162-007; ER13-1266-004; ER13-1267-003; ER11-3876-009; ER13-1268-003; ER13-1269-003; ER13-1270-003; ER11-2044-010; ER10-2475-009; ER10-3246-004; ER13-520-003; ER13-521-003; ER10-2601-002; ER13-1271-003; ER13-1272-003; ER10-2474-009; ER13-1441-003; ER13-1442-003; ER10-2611-007; ER12-1626-004; ER13-1273-003; ER10-2605-007.

Applicants: Bishop Hill Energy II LLC, CalEnergy, LLC,CE Leathers Company, Cordova Energy Company LLC, Del Ranch Company, Elmore Company, Fish Lake Power LLC, MidAmerican Energy Company, Nevada Power Company, PacifiCorp, Pinyon Pines Wind I, LLC, Pinyon Pines Wind II, LLC, Power Resources, Ltd., Salton Sea Power Generation Company, Salton Sea Power L.L.C., Solar Star California XX, LLC, Solar Star California XIX, LLC,SARANAC POWER PARTNERS LP, Topaz Solar Farms LLC, Vulcan/BN Geothermal Power Company, Yuma Cogeneration Associates.

Description: Notification of Change in Status of the BHE MBR Sellers.

Filed Date: 6/30/14.

Accession Number: 20140630-5351.

Comments Due: 5 p.m. ET 7/21/14.

Docket Numbers: ER12-281-006.

Applicants: Northampton Generating Company, L.P.

Description: Updated Market Power Analysis for the Northeast Region of Northampton Generating Company, L.P.

Filed Date: 6/30/14.

Accession Number: 20140630-5342.

Comments Due: 5 p.m. ET 8/29/14.

Docket Numbers: ER12-1195-002; ER10-2310-003; ER10-2314-003; ER10-2311-003; ER14-221-001; ER10-2312-003; ER10-2313-003; ER10-2315-003; ER10-2316-003; ER10-2318-003; ER10-2321-003.

Applicants: Camden County Energy Recovery Associates, Covanta Energy Marketing LLC, Covanta Delaware Valley, L.P., Covanta Essex Company, Covanta Haverhill Associates, LP, Covanta Hempstead Company, Covanta Maine, LLC, Covanta Niagara, L.P., Covanta Plymouth Renewable Energy Limited, Covanta Power, LLC, Covanta Union, Inc.

Description: Northeast Triennial Update of the Covanta MBR Entities.

Filed Date: 6/30/14.

Accession Number: 20140630-5340.

Comments Due: 5 p.m. ET 8/29/14.

Docket Numbers: ER12-1934-005.

Applicants: Wisconsin Power and Light Company.

Description: Notice of Non-Material Change in Status of Wisconsin Power and Light Company.

Filed Date: 6/30/14.

Accession Number: 20140630-5355.

Comments Due: 5 p.m. ET 7/21/14.

Docket Numbers: ER13-618-004; ER12-2570-005.

Applicants: Westwood Generation, LLC, Panther Creek Power Operating, LLC.

Description: Triennial Report of Westwood Generation, LLC and Panther Creek Power Operating, LLC.

Filed Date: 6/30/14.

Accession Number: 20140630-5352.

Comments Due: 5 p.m. ET 8/29/14.

Docket Numbers: ER13-821-006.

Applicants: Scrubgrass Generating Company, L.P.

Description: Updated Market Power Analysis for the Northeast Region of Scrubgrass Generating Company, L.P.

Filed Date: 6/30/14.

Accession Number: 20140630-5343.

Comments Due: 5 p.m. ET 8/29/14.

Docket Numbers: ER14-2136-001.

Applicants: Southwestern Electric Power Company.

Description: Revised and Restated Prescott PSA to be effective 7/1/2014.

Filed Date: 7/1/14.

Accession Number: 20140701-5100.

Comments Due: 5 p.m. ET 7/22/14.

Docket Numbers: ER14-2341-000.

Applicants: Ameren Illinois Company.

Description: Sectionalizing Switch Replacement Letter Agreement with EIEC and PPI to be effective 6/9/2014.

Filed Date: 7/1/14.

Accession Number: 20140701-5066.

Comments Due: 5 p.m. ET 7/22/14.

Docket Numbers: ER14-2342-000.

Applicants: Southern California Edison Company.

Description: GIA and Distrib Serv Agmt with LACSD for Spadra Gas-to-Energy Project to be effective 8/31/2014.

Filed Date: 7/1/14.

Accession Number: 20140701-5108.

Comments Due: 5 p.m. ET 7/22/14.

Docket Numbers: ER14-2343-000.

Applicants: Florida Power & Light Company.

Description: FPL and Seminole Electric Cooperative, Inc. Revisions to TSA No. 162 to be effective 7/2/2014.

Filed Date: 7/1/14.

Accession Number: 20140701-5110.

Comments Due: 5 p.m. ET 7/22/14.

Docket Numbers: ER14-2344-000.

Applicants: Vermont Transco, LLC.

Description: Vermont Transco LLC Updated Exhibit A for the 1991 Transmission Agreement to be effective 7/1/2014.

Filed Date: 7/1/14.

Accession Number: 20140701-5111.

Comments Due: 5 p.m. ET 7/22/14.

Docket Numbers: ER14-2345-000.

Applicants: El Paso Electric Company.

Description: Housekeeping Updates—OATT to be effective 9/1/2014.

Filed Date: 7/1/14.

Accession Number: 20140701-5112.

Comments Due: 5 p.m. ET 7/22/14.

Take notice that the Commission received the following qualifying facility filings:

Docket Numbers: QF12-135-000.

Applicants: Iowa Hydro, LLC.

Description: Supplemental Refund Report of Iowa Hydro, LLC.

Filed Date: 6/30/14.

Accession Number: 20140630-5339.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2014.
Nathaniel J. Davis, Sr.,
Deputy Secretary.

[FR Doc. 2014-16026 Filed 7-8-14; 8:45 am]

BILLING CODE 6717-01-P